DEPARTMENT OF HEALTH AND HUMAN SERVICES

Centers for Disease Control and Prevention

Notice of End to Requirement for Air Passengers To Provide Proof of COVID-19 Vaccination Before Boarding a Flight to the United States

AGENCY: Centers for Disease Control and Prevention (CDC), Department of Health and Human Services (HHS).

ACTION: Notice.

SUMMARY: The Centers for Disease Control and Prevention (CDC), within the Department of Health and Human Services (HHS), announces that CDC's Amended Order: Implementing Presidential Proclamation on Safe Resumption of Global Travel During the COVID-19 Pandemic no longer will be in effect beginning at 12:01 a.m. eastern daylight time on May 12, 2023. Consequently, noncitizen, nonimmigrant air passengers will no longer be required to show proof of being fully vaccinated with an accepted COVID-19 vaccine before boarding a flight to the United States.

DATES: Starting at 12:01 a.m. Eastern Daylight Time on May 12, 2023, noncitizen, nonimmigrant air passengers will no longer need to show proof of being fully vaccinated with an accepted COVID-19 vaccine to board a flight to the United States.

FOR FURTHER INFORMATION CONTACT: Candice Swartwood, Division of Global Migration and Quarantine, Centers for Disease Control and Prevention, 1600 Clifton Road NE, MS H16-4, Atlanta, GA 30329. Telephone: 1-800-232-4636.

SUPPLEMENTARY INFORMATION: Proclamation 10294 of October 25, 2021, suspended, subject to certain exceptions, the entry of nonimmigrant noncitizens into the United States by air travel without full vaccination for COVID-19. Section 4 of the Proclamation directed CDC to implement the Proclamation as it applies to public health. Pursuant to that direction, CDC issued an order on October 30, 2021, and an amended order on April 4, 2022, implementing the Proclamation.

On May 9, 2023, the President issued a Proclamation revoking Proclamation 10294's vaccination requirement for noncitizen nonimmigrants entering the United States by air travel, effective at 12:01 a.m. eastern daylight time on May 12, 2023. The Proclamation explained that, considering progress in public health and based on the latest guidance from public health experts, international air travel restrictions imposed in October 2021 were no longer necessary.

Pursuant to the May 9, 2023, Proclamation, and the President's revocation of the vaccination requirements contained in Proclamation 10294, CDC has reviewed its Amended Order Implementing Presidential Proclamation on Safe Resumption of Global Travel During the COVID-19 Pandemic and has determined that termination of this Amended Order is warranted. CDC's Amended Order, which implemented Proclamation 10294's vaccination requirements, is terminated and no longer remains in effect as of 12:01 a.m. eastern daylight time on May 12, 2023.

This means that as of 12:01 a.m. eastern daylight time on May 12, 2023, noncitizen, nonimmigrant air passengers no longer need to show proof of being fully vaccinated with an accepted COVID-19 vaccine to board a flight to the United States.¹

¹ This Notice, like CDC's April 2022 Amended Order that no longer will be in effect as of 12:01 a.m. eastern daylight time on May 12, is not a substantive rule within the meaning of the Administrative Procedure Act (APA) because it implements the President's revocation of the vaccination requirements contained in the October 2021 Proclamation (which in turn was the basis for the CDC's Amended Order). In any event, the APA's requirement of a 30-day delay in the effective date of certain “substantive rule[s],” 5 U.S.C. 553(d), would not apply to this notice, as this notice “relieves a restriction” contained in the Amended Order, id. Section 553(d)(1). Independently, were the APA applicable, CDC finds good cause for its termination of the April 2022 Amended Order to take effect at 12:01 a.m. on May 12, 2023, which coincides with the end of the COVID-19 public health emergency, given the latest public health conditions and the latest guidance from public health experts. See 5 U.S.C. 553(b), (d).

Kathryn L. Wolff,
Chief of Staff, Centers for Disease Control and Prevention.

[FR Doc. 2023-10276 Filed 5-10-23; 11:15 am]

BILLING CODE 4163-18-P